FEDERAL COMMUNICATIONS COMMISSION

47 CFR Part 11

[EB Docket No. 01-66; FCC 02-64]

Emergency Alert System

AGENCY: Federal Communications Commission.

ACTION: Final rule.

SUMMARY: This document amends part 11 of the rules to revise the technical and operational requirements for the Emergency Alert System (EAS). Many of the amendments are intended to enhance the capabilities and performance of the EAS during state and local emergencies, which will promote public safety. This document also amends the EAS rules to make compliance with the EAS requirements less burdensome for broadcast stations, cable systems and wireless cable systems and to eliminate rules which are obsolete or no longer needed.

DATES: Effective May 16, 2002.

FOR FURTHER INFORMATION CONTACT: Kathy Berthot, Enforcement Bureau, Technical and Public Safety Division, at (202) 418-7454.

SUPPLEMENTARY INFORMATION: This is a summary of the Commission's Report and Order (R&O), FCC 02-64, in EB Docket No. 01-66, adopted on February 22, 2002, and released on February 26, 2002. The complete text of this R&O is available for inspection and copying during normal business hours in the FCC Reference Information Center, 445 12th Street, SW., Room CY-A257, Washington, DC, and may be purchased from the Commission's copy contractor, Qualex International, 445 12th Street, SW., Room CY-B402, Washington, DC, (202) 863-2893. The complete text may also be downloaded from the Commission's Internet site at http://www.fcc.gov.

I. Synopsis of the Report and Order

1. In this R&O, the Commission amends part 11 of the rules to revise the technical and operational requirements for the EAS. Specifically, we amend part 11 to (1) add new state and local event codes and new location codes; (2) permit broadcast stations and cable systems to program their EAS equipment to selectively display and log state and local EAS messages; (3) increase the period within which broadcast stations and cable systems must retransmit Required Monthly Tests (RMTs) from 15 to 60 minutes from the time of receipt of the RMT; (4) revise the minimum required modulation level of EAS codes; (5) permit broadcast stations to air the audio of a presidential EAS message from a non-EAS source; (6) eliminate references to the now-defunct Emergency Action Notification (EAN) network; (7) eliminate the requirements that international High Frequency (HF) broadcast stations purchase and install EAS equipment and cease broadcasting immediately upon receipt of a national-level EAS message; (8) exempt satellite/repeater broadcast stations which rebroadcast 100% of the programming of their hub station from the requirement to install EAS equipment; (9) authorize cable systems serving fewer than 5,000 subscribers to meet the October 1, 2002 deadline by installing FCC-certified EAS decoders, to the extent that such decoders may become available, rather than both encoders and decoders; and (10) provide that low power FM stations need not install FCC-certified EAS decoders until one year after any such decoders are certified by the Commission.

2. In March 2001, the Commission issued a Notice of Proposed Rulemaking (NPRM), 66 FR 16897, March 28, 2001, to seek comment on various revisions to technical and operational EAS requirements requested in petitions for rulemaking filed by the NOAA National Weather Service (NWS) and the Society of Broadcast Engineers. The NPRM also proposed to revise the EAS rules to eliminate obsolete references to the EAN network and its participants and to delete the requirement that international HF broadcast stations purchase and install EAS equipment.

EAS Codes

3. The R&O amends the part 11 rules to add new state and local event codes for emergency conditions not covered by the existing rules and to add new marine area location codes. We agree with commenters that adding the new event codes and location codes will improve and expand the capabilities of EAS and thereby promote public safety. However, we will not require broadcast stations and cable systems to upgrade their existing EAS equipment to incorporate the new codes. Rather, we will permit broadcast stations and cable systems to upgrade their existing EAS equipment to add the new event codes on a voluntary basis until it is replaced. This approach recognizes that participation in EAS at the state and local levels is voluntary and that imposing additional costs or burdens on broadcast stations and cable systems may have the unintended effect of discouraging voluntary participation in state and local EAS activities.

4. We will require that all existing and new models of EAS equipment manufactured after August 1, 2003 be capable of receiving and transmitting the new event codes and location codes. In addition, broadcast stations and cable systems which replace their EAS equipment after February 1, 2004 will be required to install EAS equipment that is capable of receiving and transmitting the new event codes and location codes. Thus, after February 1, 2004, broadcast stations and cable systems may not replace their existing EAS equipment with used equipment or older models of equipment that has not been upgraded to incorporate the new codes. This will ensure that all broadcast stations and cable systems have the capability to receive and transmit the new codes when their EAS equipment is replaced.

EAS Equipment

5. The R&O amends part 11 to permit broadcast stations and cable systems to program their EAS equipment to preselect which EAS messages containing state and local event codes they wish to display and log. We agree with commenters that permitting selective logging and displaying of state and local EAS messages will greatly enhance EAS. It will relieve EAS participants from the burden of logging unwanted messages, e.g., messages that do not apply to a participant's service area or messages concerning events which the participant has decided not to transmit. Additionally, it will enable NWS to broadcast non-alerting messages, conduct tests, and perform system administration and control functions without impacting EAS participants which monitor National Weather Radio transmissions.

6. Broadcast stations and cable systems may upgrade their existing EAS equipment to include the selective displaying and logging capability on an optional basis until the equipment is replaced. All existing and new models of EAS equipment manufactured after August 1, 2003 must be capable of selectively displaying and logging messages with state and local event codes. Broadcast stations and cable systems which replace their EAS equipment after February 1, 2004 must install EAS equipment that is capable of selectively displaying and logging EAS messages with state and local event codes. We emphasize that this selective displaying and logging feature applies only to state and local events. EAS equipment must continue to display and log all national EAS messages and all required weekly and monthly tests.

EAS Testing

7. The R&O amends part 11 as proposed in the NPRM to increase the time for retransmitting RMTs from 15 minutes to 60 minutes from the time of receipt of the RMTs. We agree with commenters that a longer relay window will provide EAS participants more flexibility to insert the RMT message into the program schedule without disruption. Moreover, we do not believe that increasing the relay window for RMTs will compromise the ability of the EAS to deliver a real EAS message in a timely manner.

Modulation Level of EAS Codes

8. The R&O amends the part 11 rules to require that the modulation level of EAS codes be at the maximum possible level, but in no case less than 50% of full channel modulation limits. This amendment will bring the part 11 rules into alignment with the actual modulation levels currently obtainable by broadcast stations.

Carriage of Audio of Presidential EAS Messages From Non-EAS Sources

9. The R&O amends the part 11 rules to permit broadcast stations to override the EAS audio feed during a national EAS alert and substitute an audio feed of the President's message from another source. A number of commenters pointed out that the quality of the EAS audio feed is far inferior to the high quality audio network connections available to most broadcast stations and that it may be difficult or impossible for television stations to synchronize the EAS audio feed with their video feeds. We agree with commenters that the public interest will be served by amending part 11 to allow broadcast stations to provide the highest quality audio available to them during a national emergency. Because National Primary broadcast stations will still be required to relay all national EAS messages in accordance with § 11.51 of the rules, this amendment will not compromise the integrity of the EAS system or prevent those broadcast stations that do not have access to alternative audio feeds from transmitting presidential EAS messages to the public. We emphasize, however, that broadcast stations may not delay the transmission of national EAS messages in order to substitute alternative audio feeds. Rather, broadcast stations must continue to transmit all national EAS messages immediately upon receipt.

EAN Network

10. The R&O amends part 11 as proposed in the NPRM to eliminate all references the now-defunct EAN network and its participants. Previously, the EAN network was one of two networks used to distribute national emergency messages from the federal government. FEMA phased out the EAN network in 1995 in accordance with a presidential directive.

International HF Broadcast Stations

11. The R&O amends part 11 as proposed in the NPRM to eliminate the requirement that international HF broadcast stations purchase and install EAS equipment and to remove § 11.54(b)(9), which requires international HF broadcast stations to cease broadcasting immediately upon receipt of a national-level EAS message and remain off the air until they receive an EAS message terminating the activation. In 1996, after concluding that the technical and political concerns which gave rise to the requirements of § 11.54(b)(9) are no longer relevant, Commission staff granted a request by the National Association of Shortwave Broadcasters, Inc., to exempt all FCC licensed international HF broadcast stations from the requirement to purchase and install EAS equipment.

Waiver Requests

12. Several parties filed comments seeking waivers of the EAS rules. The Public Broadcasters, a group of public universities, public broadcasters and government or non-profit entities operating noncommercial educational radio and television stations, requested permanent waivers of the requirement to install EAS equipment for satellite/repeater stations which rebroadcast 100% of the programming of their lead or hub station. The Commission staff has granted permanent waivers of the requirement to install EAS equipment for satellite/repeater stations that rebroadcast 100% of the programming of their hub station and are located in the same local EAS area as the hub station, but has granted only temporary waivers where the satellite/repeater stations are outside the hub station's local EAS area. The Public Broadcasters argued that these temporary waivers should be made permanent because they can comply with the requirements and intent of the EAS rules without incurring the additional costs and burdens of installing EAS equipment at each of the satellite/repeater stations.

13. The R&O amends the part 11 rules to exempt satellite/repeater stations which rebroadcast 100% of the programming of their hub station from the requirement to install EAS equipment. Specifically, we will consider the use of a single set of EAS equipment at a hub station (or common studio/control point where there is no hub station) to satisfy the EAS obligations of the satellite/repeater stations which rebroadcast 100% of the hub station's programming. The satellite/repeater stations will comply with the requirement to transmit all national EAS alerts because all national alerts will be passed through from the hub station. In addition, we acknowledge that it may be unnecessarily burdensome for the governmental and educational institutions operating these satellite/repeater stations to incur the substantial cost of installing EAS equipment at each such satellite/repeater station for the sole purpose of being able to transmit state and local EAS alerts, which are voluntary under our rules. Furthermore, only a small number of broadcast stations will be eligible for this exemption.

14. Two commenters requested waivers or other relief involving the use of EAS decoders. The National Cable and Telecommunications Association, Telecommunications for the Deaf, Inc. and the National Association for the Deaf jointly requested a waiver which would allow cable systems serving fewer than 5,000 subscribers per headend to comply with the EAS rules by installing a decoder only, rather than both an encoder and a decoder. Cable systems serving fewer than 5,000 subscribers are required to install encoders and decoders by October 1, 2002. Media Access Project requested a temporary blanket waiver of the requirement that LPFM stations install FCC-certified EAS decoders or, alternatively, suggested that the Commission could authorize LPFM stations to install non-FCC-certified decoders or change the certification criteria for EAS decoders. On November 30, 2001, the Commission staff issued a public notice, 66 FR 63544, December 7, 2001, to solicit supplemental comment on these requests. The commenters confirmed that there are currently no FCC-certified decoder-only units available. However, one equipment manufacturer indicated that if the Commission authorizes small cable systems to comply with the EAS rules by installing a decoder only, it plans to submit a decoder-only system for certification in the first quarter of 2002.

15. We will amend the part 11 rules to permit cable systems and wireless cable systems serving fewer than 5,000 subscribers to use an FCC-certified decoder, if such a device becomes available by October 1, 2002, in lieu of an encoder/decoder unit. If FCC-certified decoders are not available by the October 1, 2002 compliance deadline, cable systems and wireless cable systems serving fewer than 5,000 subscribers will continue to be required to comply with the EAS rules by installing an encoder/decoder unit. We agree with commenters that authorizing the use of decoder-only units will, to the extent that such decoders may become available at a lower price than encoder/decoder units, benefit the public by reducing costs for small cable systems in meeting the October 1, 2002 compliance deadline. However, we also think that it is important that EAS decoders have the capability to store and forward EAS messages or to automatically pass through EAS messages. Accordingly, we will not relax the certification requirements for EAS decoders. In order to receive FCC certification, EAS decoders will be required to satisfy all of the existing requirements for decoders set forth in § 11.33 of the rules. Small cable systems which opt to install decoder-only units will not be able to originate EAS messages or generate Required Weekly Tests (RWTs), but they will be able to pass through EAS messages and accomplish Required Weekly Testing by forwarding a received RWT. Thus, we do not believe that permitting small cable systems to install decoder-only units will compromise or diminish the EAS system.

16. We will also grant a temporary exemption to LPFM licensees of the requirement to install FCC-certified decoders. Specifically, we will amend the part 11 rules to provide that LPFM stations need not install EAS decoders until one year after the Commission publishes in the Federal Register a public notice indicating that at least one EAS decoder has been certified. In the LPFM proceeding, 65 FR 7616, February 15, 2000, the Commission concluded that LPFM stations should be required to participate in EAS by installing EAS decoders only, rather than combined encoder/decoder units. We reasoned that this modified EAS requirement would balance the cost of compliance, the ability of LPFM stations to meet that cost, and the needs of the listening public to be alerted in emergency situations. While we anticipated that FCC-certified decoders would become available for under $1,000 in the near future, we stated that if certified decoder equipment is not available when the first LPFM stations go on the air, we can grant a temporary exemption for LPFM stations until such time as it is reasonably available. Several LPFM stations have recently begun operating. Since certified EAS decoders have not reached the market as quickly as we expected, we find that it is appropriate to grant LPFM licensees a temporary exemption of the requirement to install certified decoders.

II. Administrative Matters

Final Regulatory Flexibility Analysis

17. This is a summary of the Final Regulatory Flexibility Analysis (FRFA) in the R&O. The full text of the FRFA can be found in Appendix C of the R&O.

18. As required by the Regulatory Flexibility Act of 1980, as amended (RFA), 5 U.S.C. 601 et seq., an Initial Regulatory Flexibility Analysis (IRFA) was incorporated into the NPRM in EB Docket No. 01-66. The Commission sought written public comments on the proposals in the NPRM, including comments on the IRFA. No comments were filed in direct response to the IRFA. This FRFA conforms to the RFA.

19. Need for, and Objectives of, the Report and Order. This R&O amends the technical and operational requirements for the EAS. Many of the amendments adopted in this R&O are intended to enhance the capabilities and performance of the EAS during state and local emergencies, which will promote public safety. In addition, the R&O amends the EAS rules to make compliance with the EAS requirements less burdensome for broadcast stations, cable systems and wireless cable systems. This R&O also eliminates rules which are obsolete or no longer needed.

20. Summary of Significant Issues Raised by Public Comments in Response to the IRFA. No comments were filed in direct response to the IRFA. The Commission, however, has considered the potential impact of the rules proposed in the NPRM on small entities and has reduced the compliance burden for broadcast stations and cable systems as discussed in the R&O.

21. Description and Estimate of the Number of Small Entities to Which the Rules Will Apply. The RFA directs agencies to provide a description of and, where feasible, an estimate of the number of small entities that may be affected by the rules adopted herein. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA). A small organization is generally “any not-for-profit enterprise which is independently owned and operated and is not dominant in its field.” Nationwide, as of 1992, there were approximately 275,801 small organizations. “Small governmental jurisdiction” generally means “governments of cities, counties, towns, townships, villages, school districts, or special districts, with a population of less than 50,000.” As of 1992, there were approximately 85,006 such jurisdictions in the United States. This number includes 38,978 counties, cities, and towns; of these, 37,566, or 96 percent, have populations of fewer than 50,000. The Census Bureau estimates that this ratio is approximately accurate for all governmental entities. Thus, of the 85,006 governmental entities, we estimate that 81,600 (91 percent) are small entities.

22. Television and radio stations. The rules adopted in this R&O will apply to television broadcasting licensees and radio broadcasting licensees. The SBA defines a television broadcasting station that has $10.5 million or less in annual receipts as a small business. Television broadcasting stations consist of establishments primarily engaged in broadcasting visual programs by television to the public, except cable and other pay television services. Included in this industry are commercial, religious, educational, and other television stations. Also included are establishments primarily engaged in television broadcasting and which produce taped television program materials. Separate establishments primarily engaged in producing taped television program materials are classified under another NAICS code. There were 1,509 television stations operating in the nation in 1992. As of September 30, 2001, Commission records indicate that 1,686 television broadcasting stations were operating, approximately 1,298 of which are considered small businesses. For 1992, the number of television stations that produced less than $10.0 million in revenue was 1,155 establishments.

23. The SBA defines a radio broadcasting station that has $5 million or less in annual receipts as a small business. A radio broadcasting station is an establishment primarily engaged in broadcasting aural programs by radio to the public. Included in this industry are commercial, religious, educational, and other radio stations. Radio broadcasting stations, which primarily are engaged in radio broadcasting and which produce radio program materials are similarly included. However, radio stations that are separate establishments and are primarily engaged in producing radio program material are classified under another NAICS code. The 1992 Census indicates that 96 percent (5,861 of 6,127) radio station establishments produced less than $5 million in revenue in 1992. Commission records indicate that 11,334 individual radio stations were operating in 1992. As of September 30, 2001, Commission records indicate that 13,012 radio stations were operating, approximately 12,550 of which are considered small businesses.

24. Thus, the rules may affect approximately 1,686 full power television stations, approximately 1,298 of which are considered small businesses. Additionally, the proposed rules may affect some 13,012 full power radio stations, approximately 12,550 of which are small businesses. These estimates may overstate the number of small entities because the revenue figures on which they are based do not include or aggregate revenues from non-television or non-radio affiliated companies. There are also 2,396 low power television (LPTV) stations. Given the nature of this service, we will presume that all LPTV licensees qualify as small entities under the SBA definition.

25. Cable systems. The rules adopted in this proceeding will also affect small cable entities. The SBA has developed a definition of small entities for “Cable and Other Program Distribution Services,” which includes all such companies generating $11 million or less in revenue annually. This definition includes cable system operators, closed circuit television services, direct broadcast satellite services, multipoint distribution systems, satellite master antenna systems and subscription television services. According to Census Bureau data from 1992, there were 1,788 total cable and other program distribution services and 1,423 had less than $11 million in revenue.

26. The Commission has developed its own definition of a “small cable system” for purposes of the EAS rules. Cable systems serving fewer than 10,000 subscribers per headend are considered small cable systems and are afforded varying degrees of relief from the EAS rules. Based on our most recent information, we estimate that there are 8,552 cable systems that serve fewer than 10,000 subscribers per headend. Consequently, we estimate that there are fewer than 8,552 small cable systems that may be affected by the rules adopted herein.

27. The Communications Act also contains a definition of a small cable system operator, which is “a cable operator that, directly or through an affiliate, serves in the aggregate fewer than 1 percent of all subscribers in the United States and is not affiliated with any entity or entities whose gross annual revenues in the aggregate exceed $250,000,000.” The Commission has determined that there are 67,700,000 subscribers in the United States. Therefore, we found that an operator serving fewer than 677,000 subscribers shall be deemed a small operator, if its annual revenues, when combined with the total annual revenues of all of its affiliates, do not exceed $250 million in the aggregate. Based on available data, we find that the number of cable operators serving 677,000 subscribers or less totals 1,450. We do not request nor do we collect information concerning whether cable system operators are affiliated with entities whose gross annual revenues exceed $250,000,000, and thus are unable at this time to estimate with greater precision the number of cable system operators that would qualify as small cable operators under the definition in the Communications Act.

28. Wireless cable systems. The rules adopted in this R&O will also apply to wireless cable systems, which include Multipoint Distribution Service and Multichannel Multipoint Distribution Service stations (collectively, MDS) and Instructional Television Fixed Service (ITFS) stations. The Commission has defined “small entity” for purposes of the auction of MDS frequencies as an entity that, together with its affiliates, has average gross annual revenues that are not more than $40 million for the preceding three calendar years. This definition of small entity in the context of MDS auctions has been approved by the SBA. The Commission completed its MDS auction in March 1996 for authorizations in 493 basic trading areas. Of 67 winning bidders, 61 qualified as small entities. At this time, we estimate that of the 61 small business MDS auction winners, 48 remain small business licensees.

29. MDS also includes licensees of stations authorized prior to the auction. As noted, the SBA has developed a definition of small entities for program distribution services, which includes all such companies generating $11 million or less in annual receipts. This definition includes MDS and thus applies to MDS licensees that did not participate in the MDS auction. Information available to us indicates that there are approximately 392 incumbent MDS licensees that do not generate revenue in excess of $11 million annually. Therefore, we find that there are approximately 440 small MDS providers as defined by the SBA and the Commission's auction rules which may be affected by the rules adopted in this proceeding.

30. The SBA definition of small entities for program distribution services also appears to apply to ITFS. There are presently 2,032 ITFS licensees. All but 100 of these licenses are held by educational institutions. Educational institutions are included in the definition of a small business. However, we do not collect annual revenue data for ITFS licensees, and are not able to ascertain how many of the 100 non-educational licensees would be categorized as small under the SBA definition. Thus, we find that at least 1,932 ITFS are small businesses and may be affected by the rules adopted herein.

31. Description of Reporting, Recordkeeping, and Other Compliance Requirements. The rules adopted in this R&O impose no new reporting, recordkeeping or compliance requirements on broadcast stations and cable systems, including wireless cable systems. This R&O adopts a number of new EAS event codes and location codes which may be used by broadcast stations and cable systems that participate voluntarily in state and local EAS activities. Broadcast stations and cable systems will not be required to upgrade their existing EAS equipment to add these new event and location codes. Rather, they may upgrade their existing EAS equipment to add these new codes on a voluntary basis until the equipment is replaced. All existing and new models of EAS equipment manufactured after August 1, 2003 will be required to be capable of receiving and transmitting these new codes.

32. The R&O also makes revisions to the EAS rules which will reduce compliance burdens on broadcast stations and cable systems. The revised rules permit broadcast stations and cable systems to modify their existing EAS equipment to selectively display and log EAS messages that contain state and local event codes. This selectively displaying and logging feature will relieve broadcast stations and cable systems from the burden of logging unwanted EAS messages, e.g., messages that do not apply to their service area or messages concerning events which they have decided not to transmit. In addition, the revised rules increase the period within which broadcast stations and cable systems must retransmit the Required Monthly Test (RMT) from 15 minutes to 60 minutes. This revision will provide broadcast stations and cable systems, including smaller stations and systems, more flexibility to insert the RMT message into their program schedules without disrupting programming. Additionally, the rules are revised to require that the modulation level of EAS codes be at the maximum possible level, but in no case less than 50% of full channel modulation limits. This revision brings the EAS rules into alignment with the modulation levels currently obtainable by broadcast stations.

33. Steps Taken to Minimize Significant Economic Impact on Small Entities, and Significant Alternatives Considered. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance rather than design standards; and (4) an exemption from coverage of the rule, or any part thereof, for such small entities.

34. The R&O reduces compliance requirements for small entities by exempting satellite/repeater broadcast stations which rebroadcast 100% of the programming of their hub station from the requirement to install EAS equipment; authorizing cable systems and wireless cable systems serving fewer than 5,000 subscribers to meet the October 1, 2002 compliance deadline by installing certified EAS decoders, if such decoders become available, rather than both encoders and decoders; and delaying the requirement that LPFM stations install certified EAS decoders until one year after the Commission publishes in the Federal Register a public notice indicating that at least one decoder has been certified.

35. In adopting new event codes and location codes in this R&O, we took into account concerns raised by commenters that a requirement to update existing EAS equipment to add the new codes could impose a financial burden on some broadcast stations and cable systems, particularly smaller entities. We therefore declined to require broadcast stations and cable systems to upgrade existing EAS equipment to add the new codes. Instead, we opted to permit them to upgrade their existing equipment on a voluntary basis until the equipment is replaced. We believe that this approach promotes public safety by enhancing state and local EAS without imposing additional costs or burdens on broadcast stations and cable systems that may have the undesired effect of reducing voluntary participation in state and local EAS activities. In addition, we declined to adopt several other proposals, including a proposal to revise several existing event codes, due to concerns that they would impose substantial costs on broadcast stations and cable systems.

Final Paperwork Reduction Act Analysis

36. This R&O does not contain any new or modified information collection. Therefore, it is not subject to the requirements for a paperwork reduction analysis, and the Commission has not performed one.

Ordering Clauses

37. Pursuant to the authority contained in sections 1, 4(i) and (o), 303(r), 624(g) and 706 of the Communications Act of 1934, as amended, 47 U.S.C. 151, 154(i) and (o), 303(r), 554(g) and 606, part 11 of the Commission's rules, 47 CFR part 11, is amended.

38. The Commission's Consumer and Government Affairs Bureau, Reference Information Center, shall send a copy of this R&O, including the Final Regulatory Flexibility Analysis, to the Chief Counsel for Advocacy of the Small Business Administration in accordance with the Regulatory Flexibility Act.

List of Subjects in 47 CFR Part 11

Radio, Television.

Federal Communications Commission.
William F. Caton,
Acting Secretary.

Rule Changes

For the reasons discussed in the preamble, the Federal Communications Commission amends 47 CFR part 11 as follows:

PART 11—EMERGENCY ALERT SYSTEM (EAS)

1. The authority citation for Part 11 continues to read as follows:

Authority: 47 U.S.C. 151, 154(i) and (o), 303(r), 544(g) and 606.

2. Section 11.11 is amended by revising the three tables in paragraph (a) and revising paragraph (b) to read as follows:

§ 11.11 The Emergency Alert System (EAS).

(a) ***

Broadcast Stations
EAS Equipment requirement | AM & FM | TV | FM Class D | LPTV ¹ | LPFM ² | Class A TV
Two-tone encoder ³ ⁴ | Y | Y | N | N | N | Y
EAS decoder | Y 1/1/97 | Y 1/1/97 | Y 1/1/97 | Y 1/1/97 | Y | Y
EAS encoder | Y 1/1/97 | Y 1/1/97 | N | N | N | Y
Audio message | Y 1/1/97 | Y 1/1/97 | Y 1/1/97 | Y 1/1/97 | Y | Y
Video message | N/A | Y 1/1/97 | N/A | Y 1/1/97 | N/A | Y
¹ LPTV stations that operate as television broadcast translator stations are exempt from the requirement to have EAS equipment.
² LPFM stations must install a decoder within one year after the FCC publishes in the Federal Register a public notice indicating that at least one decoder has been certified by the FCC.
³ Effective July 1, 1995, the two-tone signal must be 8-25 seconds.
⁴ Effective January 1, 1998, the two-tone signal may only be used to provide audio alerts to audiences before EAS emergency messages and the required monthly tests.

Cable Systems
[A. Cable systems serving fewer than 5,000 subscribers from a headend must either provide the National level EAS message on all programmed channels—including the required testing—by October 1, 2002, or comply with the following EAS requirements. All other cable systems must comply with B.]
B. EAS Equipment Requirement | System size and effective dates: ≥10,000 subscribers | System size and effective dates: ≥5,000 but < 10,000 subscribers | System size and effective dates: <5,000 subscribers
Two-tone signal from storage device ¹ | Y 12/31/98 | Y 10/1/02 | Y 10/1/02
EAS decoder ³ | Y 12/31/98 | Y 10/1/02 | Y 10/1/02
EAS encoder ² | Y 12/31/98 | Y 10/1/02 | Y 10/1/02
Audio and Video EAS Message on all channels | Y 12/31/98 | Y 10/1/02 | N
Video interrupt and audio alert message on all channels,³ Audio and Video EAS message on at least one channel. | N | N | Y 10/1/02
¹ Two-tone signal is only used to provide an audio alert to audience before EAS emergency messages and required monthly test. The two-tone signal must be 8-25 seconds in duration.
² Cable systems serving <5,000 subscribers are permitted to operate without an EAS encoder if they install an FCC-certified decoder.
³ The Video interrupt must cause all channels that carry programming to flash for the duration of the EAS emergency message. The audio alert must give the channel where the EAS messages are carried and be repeated for the duration of the EAS message.
Note: Programmed channels do not include channels used for the transmission of data such as interactive games.

Wireless Cable Systems (MDS/MMS/ITFS Stations)
[A. Wireless cable systems serving fewer than 5,000 subscribers from a single transmission site must either provide the National level EAS message on all programmed channels—including the required testing—by October 1, 2002, or comply with the following EAS requirements. All other wireless cable systems must comply with B.]
B. EAS Equipment Requirement | System size and effective dates: ≥ 5,000 subscribers | System size and effective dates: < 5,000subscribers
EAS decoder | Y 10/1/02 | Y 10/1/02
EAS encoder ¹ ² | Y 10/1/02 | Y 10/1/02
Audio and Video EAS Message on all channels | Y 10/1/02 | N
Video interrupt and audio alert message on all channels; ³ Audio and Video EAS message on at least one channel | N | Y 10/1/02
¹ Two-tone signal is only used to provide an audio alert to audience before EAS emergency messages and required monthly test. The two-tone signal must be 8-25 seconds in duration.
² Wireless cable systems serving <5,000 subscribers are permitted to operate without an EAS encoder if they install an FCC-certified decoder.
³ The Video interrupt must cause all channels that carry programming to flash for the duration of the EAS emergency message. The audio alert must give the channel where the EAS messages are carried and be repeated for the duration of the EAS message.
Note: Programmed channels do not include channels used for the transmission of data services such as Internet.

(b) Class D non-commercial educational FM stations as defined in § 73.506, LPFM stations as defined in §§ 73.811 and 73.853, and LPTV stations as defined in § 74.701(f) are not required to comply with § 11.32. LPTV stations that operate as television broadcast translator stations, as defined in § 74.701(b) of this chapter, are not required to comply with the requirements of this part. FM broadcast booster stations as defined in § 74.1201(f) of this chapter and FM translator stations as defined in § 74.1201(a) of this chapter which entirely rebroadcast the programming of other local FM broadcast stations are not required to comply with the requirements of this part. International broadcast stations as defined in § 73.701 of this chapter are not required to comply with the requirements of this part. Broadcast stations that operate as satellites or repeaters of a hub station (or common studio or control point if there is no hub station) and rebroadcast 100% of the programming of the hub station (or common studio or control point) may satisfy the requirements of this part through the use of a single set of EAS equipment at the hub station (or common studio or control point) which complies with §§ 11.32 and 11.33.

* * * * *

3. Revise § 11.14 to read as follows:

§ 11.14 Primary Entry Point (PEP) System.

The PEP system is a nationwide network of broadcast stations and other entities connected with government activation points. It is used to distribute the EAN, EAT and EAS national test messages, and other EAS messages.

4. Section 11.16 is amended by revising the introductory text to read as follows:

§ 11.16 National Control Point Procedures.

The National Control Point Procedures are written instructions issued by the FCC to national level EAS control points. The procedures are divided into sections as follows:

* * * * *

5. Section 11.31 is amended by revising paragraphs (c), (d), (e) and (f) as follows:

§ 11.31 EAS Protocol.

* * * * *

(c) The EAS protocol, including any codes, must not be amended, extended or abridged without FCC authorization. The EAS protocol and message format are specified in the following representation.

Examples are provided in FCC Public Notices.

[PREAMBLE]ZCZC-ORG-EEE-PSSCCC+TTTT-JJJHHMM-LLLLLLLL-(one second pause)

[PREAMBLE]ZCZC-ORG-EEE-PSSCCC+TTTT-JJJHHMM-LLLLLLLL-(one second pause)

[PREAMBLE]ZCZC-ORG-EEE-PSSCCC+TTTT-JJJHHMM-LLLLLLLL-(at least a one second pause)

(transmission of 8 to 25 seconds of Attention Signal)

(transmission of audio, video or text messages)

(at least a one second pause)

[PREAMBLE]NNNN (one second pause)

[PREAMBLE]NNNN (one second pause)

[PREAMBLE]NNNN (at least one second pause)

[PREAMBLE] This is a consecutive string of bits (sixteen bytes of AB hexadecimal [8 bit byte 10101011]) sent to clear the system, set AGC and set asynchronous decoder clocking cycles. The preamble must be transmitted before each header and End Of Message code.

ZCZC—This is the identifier, sent as ASCII characters ZCZC to indicate the start of ASCII code.

ORG—This is the Originator code and indicates who originally initiated the activation of the EAS. These codes are specified in paragraph (d) of this section.

EEE—This is the Event code and indicates the nature of the EAS activation. The codes are specified in paragraph (e) of this section. The Event codes must be compatible with the codes used by the NWS Weather Radio Specific Area Message Encoder (WRSAME).

PSSCCC—This the Location code and indicates the geographic area affected by the EAS alert. There may be 31 Location codes in an EAS alert. The Location code uses the Federal Information Processing Standard (FIPS) numbers as described by the U.S. Department of Commerce in National Institute of Standards and Technology publication FIPS PUB 6-4. Each state is assigned an SS number as specified in paragraph (f) of this section. Each county and some cities are assigned a CCC number. A CCC number of 000 refers to an entire State or Territory. P defines county subdivisions as follows: 0 = all or an unspecified portion of a county, 1 = Northwest, 2 = North, 3 = Northeast, 4 = West, 5 = Central, 6 = East, 7 = Southwest, 8 = South, 9 = Southeast. Other numbers may be designated later for special applications. The use of county subdivisions will probably be rare and generally for oddly shaped or unusually large counties. Any subdivisions must be defined and agreed to by the local officials prior to use.

+TTTT—This indicates the valid time period of a message in 15 minute segments up to one hour and then in 30 minute segments beyond one hour; i.e., +0015, +0030, +0045, +0100, +0430 and +0600.

JJJHHMM—This is the day in Julian Calendar days (JJJ) of the year and the time in hours and minutes (HHMM) when the message was initially released by the originator using 24 hour Universal Coordinated Time (UTC).

LLLLLLLL—This is the identification of the broadcast station, cable system, MDS/MMDS/ITFS station, NWS office, etc., transmitting or retransmitting the message. These codes will be automatically affixed to all outgoing messages by the EAS encoder.

NNNN—This is the End of Message (EOM) code sent as a string of four ASCII N characters.

(d) The only originator codes are:

Originator | ORG Code
Broadcast station or cable system | EAS
Civil authorities | CIV
National Weather Service | WXR
Primary Entry Point System | PEP

(e) The following Event (EEE) codes are presently authorized:

Nature of Activation | Event Codes
National Codes (Required):
Emergency Action Notification (National only) | EAN
Emergency Action Termination (National only) | EAT
National Information Center | NIC
National Periodic Test | NPT
Required Monthly Test | RMT
Required Weekly Test | RWT
State and Local Codes (Optional):
Administrative Message | ADR
Avalanche Warning | AVW¹
Avalanche Watch | AVA¹
Blizzard Warning | BZW
Child Abduction Emergency | CAE¹
Civil Danger Warning | CDW¹
Civil Emergency Message | CEM
Coastal Flood Warning | CFW¹
Coastal Flood Watch | CFA¹
Dust Storm Warning | DSW¹
Earthquake Warning | EQW¹
Evacuation Immediate | EVI
Fire Warning | FRW¹
Flash Flood Warning | FFW
Flash Flood Watch | FFA
Flash Flood Statement | FFS
Flood Warning | FLW
Flood Watch | FLA
Flood Statement | FLS
Hazardous Materials Warning | HMW¹
High Wind Warning | HWW
High Wind Watch | HWA
Hurricane Warning | HUW
Hurricane Watch | HUA
Hurricane Statement | HLS
Law Enforcement Warning | LEW¹
Local Area Emergency | LAE¹
Network Message Notification | NMN¹
911 Telephone Outage Emergency | TOE¹
Nuclear Power Plant Warning | NUW¹
Practice/Demo Warning | DMO
Radiological Hazard Warning | RHW¹
Severe Thunderstorm Warning | SVR
Severe Thunderstorm Watch | SVA
Severe Weather Statement | SVS
Shelter in Place Warning | SPW¹
Special Marine Warning | SMW¹
Special Weather Statement | SPS
Tornado Warning | TOR
Tornado Watch | TOA
Tropical Storm Warning | TRW¹
Tropical Storm Watch | TRA¹
Tsunami Warning | TSW
Tsunami Watch | TSA
Volcano Warning | VOW¹
Winter Storm Warning | WSW
Winter Storm Watch | WSA
¹ Effective May 16, 2002, broadcast stations, cable systems and wireless cable systems may upgrade their existing EAS equipment to add these event codes on a voluntary basis until the equipment is replaced. All models of EAS equipment manufactured after August 1, 2003 must be capable of receiving and transmitting these event codes. Broadcast stations, cable systems and wireless cable systems which replace their EAS equipment after February 1, 2004 must install equipment that is capable of receiving and transmitting these event codes.

(f) The State, Territory and Offshore (Marine Area) FIPS number codes (SS) are as follows. County FIPS numbers (CCC) are contained in the State EAS Mapbook.

Offshore (Marine Areas)¹ | FIPS#
Eastern North Pacific Ocean, and along U.S. West Coast from Canadian border to Mexican border | 57
North Pacific Ocean near Alaska, and along Alaska coastline, including the Bering Sea and the Gulf of Alaska | 58
Central Pacific Ocean, including Hawaiian waters | 59
South Central Pacific Ocean, including American Samoa waters | 61
Western Pacific Ocean, including Mariana Island waters | 65
Western North Atlantic Ocean, and along U.S. East Coast, from Canadian border south to Currituck Beach Light, N.C. | 73
Western North Atlantic Ocean, and along U.S. East Coast, south of Currituck Beach Light, N.C., following the coastline into Gulf of Mexico to Bonita Beach, FL., including the Caribbean | 75
Gulf of Mexico, and along the U.S. Gulf Coast from the Mexican border to Bonita Beach, FL. | 77
Lake Superior | 91
Lake Michigan | 92
Lake Huron | 93
Lake St. Clair | 94
Lake Erie | 96
Lake Ontario | 97
St. Lawrence River above St. Regis | 98
¹ Effective May 16, 2002, broadcast stations, cable systems and wireless cable systems may upgrade their existing EAS equipment to add these marine area location codes on a voluntary basis until the equipment is replaced. All models of EAS equipment manufactured after August 1, 2003 must be capable of receiving and transmitting these marine area location codes. Broadcast stations, cable systems and wireless cable systems which replace their EAS equipment after February 1, 2004 must install equipment that is capable of receiving and transmitting these location codes.

6. Section 11.33 is amended by revising paragraphs (a)(3)(ii) and (a)(4) to read as follows:

§ 11.33 EAS Decoder.

(a) * * *

(3) ***

(ii) Store at least ten preselected event and originator header codes, in addition to the seven mandatory event/originator codes for tests and national activations, and store any preselected location codes for comparison with incoming header codes. A non-preselected header code that is manually transmitted must be stored for comparison with later incoming header codes. The header codes of the last ten received valid messages which still have valid time periods must be stored for comparison with the incoming valid header codes for later messages. These last received header codes will be deleted from storage as their valid time periods expire.

(4) Display and logging. A visual message shall be developed from any valid header codes for tests and national activations and any preselected header codes received. The message shall include the Originator, Event, Location, the valid time period of the message and the local time the message was transmitted. The message shall be in the primary language of the broadcast station or cable system and be fully displayed on the decoder and readable in normal light and darkness. All existing and new models of EAS decoders manufactured after August 1, 2003 must provide a means to permit the selective display and logging of EAS messages containing header codes for state and local EAS events. Effective May 16, 2002, broadcast stations, cable systems and wireless cable systems may upgrade their decoders on an optional basis to include a selective display and logging capability for EAS messages containing header codes for state and local events. Broadcast stations, cable systems and wireless cable systems which replace their decoders after February 1, 2004 must install decoders that provide a means to permit the selective display and logging of EAS messages containing header codes for state and local EAS events.

* * * * *

7. Section 11.34 is amended by adding paragraphs (f) and (g) to read as follows:

§ 11.34 Acceptability of the equipment.

* * * * *

(f) Modifications to existing authorized EAS decoders, encoders or combined units necessary to implement the new EAS codes specified in § 11.31 and to implement the selective displaying and logging feature specified in § 11.33(a)(4) will be considered Class I permissive changes that do not require a new application for and grant of equipment certification under part 2, subpart J of this chapter.

(g) All existing and new models of EAS encoders, decoders and combined units manufactured after August 1, 2003 must be capable of generating and detecting the new EAS codes specified in § 11.31 in order to be certified under part 2, subpart J of this chapter. All existing and new models of EAS decoders and combined units manufactured after August 1, 2003 must have the selective displaying and logging capability specified in § 11.33(a)(4) in order to be certified under part 2, subpart J of this chapter.

8. Section 11.42 is amended by revising the first sentence of paragraph (c) to read as follows:

§ 11.42 Participation by communications common carriers.

* * * * *

(c) During a National level EAS Test, common carriers which have facilities in place may, without charge, connect an originating source from the nearest exchange to a selected Test Center and then to any participating radio networks, television networks and cable networks and program suppliers.* * *

* * * * *

9. Section 11.43 is revised to read as follows:

§ 11.43 National level participation.

Entities that wish to voluntarily participate in the national level EAS may submit a written request to the Chief, Technical and Public Safety Division, Enforcement Bureau.

10. Section 11.51 is amended by revising paragraphs (f), (k)(2) and (l) to read as follows:

§ 11.51 EAS code and Attention Signal Transmission requirements.

* * * * *

(f) Broadcast station equipment generating the EAS codes and the Attention Signal shall modulate a broadcast station transmitter so that the signal broadcast to other broadcast stations and cable systems and wireless cable systems alerts them that the EAS is being activated or tested at the National, State or Local Area level. The minimum level of modulation for EAS codes, measured at peak modulation levels using the internal calibration output required in § 11.32(a)(4), shall modulate the transmitter at the maximum possible level, but in no case less than 50% of full channel modulation limits. Measured at peak modulation levels, each of the Attention Signal tones shall be calibrated separately to modulate the transmitter at no less than 40%. These two calibrated modulation levels shall have values that are within 1 dB of each other.

* * * * *

(k) * * *

(2) Manual interrupt of programming and transmission of EAS messages may be used. EAS messages with the EAN Event code must be transmitted immediately and Monthly EAS test messages within 60 minutes. All actions must be logged and include the minimum information required for EAS video messages.

(l) Broadcast stations and cable systems and wireless cable systems may employ a minimum delay feature, not to exceed 15 minutes, for automatic interruption of EAS codes. However, this may not be used for the EAN event which must be transmitted immediately. The delay time for an RMT message may not exceed 60 minutes.

* * * * *

11. Section 11.52 is amended by revising paragraph (e)(2) to read as follows:

§ 11.52 EAS code and Attention Signal Monitoring requirements.

* * * * *

(e) * * *

(2) Manual interrupt of programming and transmission of EAS messages may be used. EAS messages with the EAN Event code must be transmitted immediately and Monthly EAS test messages within 60 minutes. All actions must be logged and recorded. Decoders must be programmed for the EAN and EAT Event header codes for National level emergencies and the RMT and RWT Event header codes for required monthly and weekly tests, with the appropriate accompanying State and State/county location codes.

12. Section 11.53 is amended by revising paragraphs (a) and (c) to read as follows:

§ 11.53 Dissemination of Emergency Action Notification.

* * * * *

(a) National Level. The EAN is issued by the White House. The EAN message is sent from a government origination point to broadcast stations and other entities participating in the PEP system. It is then disseminated via:

(1) Radio and television broadcast stations.

(2) Cable systems and wireless cable systems.

(3) Other entities voluntarily participating in EAS.

* * * * *

(c) Broadcast stations must, prior to commencing routine operation or originating any emissions under program test, equipment test, experimental, or other authorizations, determine whether the EAS has been activated by monitoring the assigned EAS sources.

13. Section 11.54 is amended by revising paragraph (b) and adding paragraph (e) to read as follows:

§ 11.54 EAS operation during a National Level emergency.

* * * * *

(b) Immediately upon receipt of an EAN message, broadcast stations and cable systems and wireless cable systems must:

(1) Monitor the two EAS sources assigned in the State or Local Area plan or FCC Mapbook for any further instructions.

(2) Discontinue normal programming and follow the transmission procedures in the appropriate section of the EAS Operating Handbook. Announcements may be made in the same language as the primary language of the station.

(i) Key EAS sources (National Primary (NP), Local Primary (LP), State Primary (SP), State Relay (SR) and Participating National (PN) sources) follow the transmission procedures and make the announcements in the National Level Instructions of the EAS Operating Handbook.

(ii) Non-participating National (NN) sources follow the transmission procedures and make the sign-off announcement in the EAS Operating Handbook's National Level Instructions section for NN sources. After the sign-off announcement, NN sources are required to remove their carriers from the air and monitor for the Emergency Action Termination message. NN sources using automatic interrupt under § 11.51(k)(1), must transmit the header codes, Attention Signal, sign-off announcement and EOM code after receiving the appropriate EAS header codes for a national emergency.

(3) After completing the above transmission procedures, key EAS and Participating National sources must transmit a common emergency message until receipt of the Emergency Action Termination Message. Message priorities are specified in § 11.44. If LP or SR sources of a Local Area cannot provide an emergency message feed, any source in the Local Area may elect to provide a message feed. This should be done in an organized manner as designated in State and Local Area EAS Plans.

(4) The Standby Script shall be used until emergency messages are available. The text of the Standby Script is in the EAS Operating Handbook's section for Participating sources.

(5) TV broadcast stations shall display an appropriate EAS slide and then transmit all EAS announcements visually and aurally as specified in § 73.1250(h) of this chapter.

(6) Cable systems and wireless cable systems shall transmit all EAS announcements visually and aurally as specified in § 11.51(g) and (h).

(7) Announcements may be made in the same language as the primary language of the station.

(8) Broadcast stations may transmit their call letters and cable systems and wireless cable systems may transmit the names of the communities they serve during an EAS activation. State and Local Area identifications must be given as provided in State and Local Area EAS plans.

(9) All broadcast stations and cable systems and wireless cable systems operating and identified with a particular EAS Local Area must transmit a common national emergency message until receipt of the Emergency Action Termination.

(10) Broadcast stations, except those holding an EAS Non-participating National Authorization letter, are exempt from complying with §§ 73.62 and 73.1560 of this chapter (operating power maintenance) while operating under this part.

(11) National Primary (NP) sources must operate under the procedures in the National Control Point Procedures.

(12) The time of receipt of the EAN and Emergency Action Termination messages shall be entered by broadcast stations in their logs (as specified in §§ 73.1820 and 73.1840 of this chapter), by cable systems in their records (as specified in § 76.305 of this chapter), and by subject wireless cable systems in their records (as specified in § 21.304 of this chapter).

* * * * *

(e) During a national level EAS emergency, broadcast stations may transmit in lieu of the EAS audio feed an audio feed of the President's voice message from an alternative source, such as a broadcast network audio feed.

14. Section 11.55 is amended by revising paragraphs (c)(4) and (c)(7) to read as follows:

§ 11.55 EAS operation during a State or Local Area emergency.

* * * * *

(c) * * *

(4) Broadcast stations, cable systems and wireless cable systems participating in the State or Local Area EAS must discontinue normal programming and follow the procedures in the State and Local Area plans. Television stations must comply with § 11.54(b)(5) and cable systems and wireless cable systems must comply with § 11.54(b)(6). Broadcast stations providing foreign language programming shall comply with § 11.54(b)(7).

* * * * *

(7) The times of the above EAS actions must be entered in the broadcast station, cable system or wireless cable system records as specified in § 11.54(b)(12).

* * * * *

15. Section 11.61 is revised to read as follows:

§ 11.61 Tests of EAS procedures.

(a) Tests shall be made at regular intervals as indicated in paragraphs (a)(1) and (a)(2) of this section. Additional tests may be performed anytime. EAS activations and special tests may be performed in lieu of required tests as specified in paragraph (a)(4) of this section. All tests will conform with the procedures in the EAS Operating Handbook.

(1) Required Monthly Tests of the EAS header codes, Attention Signal, Test Script and EOM code.

(i) Effective January 1, 1997, AM, FM and TV stations.

(ii) Effective October 1, 2002, cable systems with fewer than 5,000 subscribers per headend.

(iii) Effective December 31, 1998, cable systems with 10,000 or more subscribers; and effective October 1, 2002, cable systems serving 5,000 or more, but less than 10,000 subscribers per headend.

(iv) Effective October 1, 2002, all wireless cable systems.

(v) Tests in odd numbered months shall occur between 8:30 a.m. and local sunset. Tests in even numbered months shall occur between local sunset and 8:30 a.m. They will originate from Local or State Primary sources. The time and script content will be developed by State Emergency Communications Committees in cooperation with affected broadcast stations, cable systems, wireless cable systems, and other participants. Script content may be in the primary language of the broadcast station or cable system. These monthly tests must be transmitted within 60 minutes of receipt by broadcast stations and cable systems and wireless cable systems in an EAS Local Area or State. Class D non-commercial educational FM and LPTV stations are required to transmit only the test script.

(2) Required Weekly Tests:

(i) EAS Header Codes and EOM Codes:

(A) Effective January 1, 1997, AM, FM and TV stations must conduct tests of the EAS header and EOM codes at least once a week at random days and times.

(B) Effective December 31, 1998, cable systems with 10,000 or more subscribers per headend must conduct tests of the EAS header and EOM codes at least once a week at random days and times on all programmed channels:

(C) Effective October 1, 2002, cable systems serving fewer than 5,000 subscribers per headend must conduct tests of the EAS header and EOM codes at least once a week at random days and times on at least one programmed channel.

(D) Effective October 1, 2002, the following cable systems and wireless cable systems must conduct tests of the EAS header and EOM codes at least once a week at random days and times on all programmed channels:

(1) Cable systems serving 5,000 or more, but less than 10,000 subscribers per headend; and,

(2) Wireless cable systems with 5,000 or more subscribers.

(E) Effective October 1, 2002, the following cable systems and wireless cable systems must conduct tests of the EAS header and EOM codes at least once a week at random days and times on at least one programmed channel:

(1) Cable systems with fewer than 5,000 subscribers per headend; and,

(2) Wireless cable systems with fewer than 5,000 subscribers.

(ii) Class D non-commercial educational FM and LPTV stations are not required to transmit this test but must log receipt.

(iii) The EAS weekly test is not required during the week that a monthly test is conducted.

(iv) TV stations, cable television systems and wireless cable systems are not required to transmit a video message when transmitting the required weekly test.

(3) Periodic National Tests. National Primary (NP) sources shall participate in tests as appropriate. The FCC may request a report of these tests.

(4) EAS activations and special tests. The EAS may be activated for emergencies or special tests at the State or Local Area level by a broadcast station, cable system or wireless cable system instead of the monthly or weekly tests required by this section. To substitute for a monthly test, activation must include transmission of the EAS header codes, Attention Signal, emergency message and EOM code and comply with the visual message requirements in § 11.51. To substitute for the weekly test of the EAS header codes and EOM codes in paragraph (2)(i) of this section, activation must include transmission of the EAS header and EOM codes. Television stations and cable systems and wireless cable systems shall comply with the aural and visual message requirements in § 11.51. Special EAS tests at the State and Local Area levels may be conducted on daily basis following procedures in State and Local Area EAS plans.

(b) Entries shall be made in broadcast station and cable system and wireless cable system records as specified in § 11.54(b)(12).

§ 11.62 [Removed]

16. Remove § 11.62.

[FR Doc. 02-8557 Filed 4-15-02; 8:45 am]

BILLING CODE 6712-01-P